ENVIRONMENTAL PROTECTION AGENCY

[ER-FRL-9038-4]

Environmental Impact Statements; Notice of Availability

Responsible Agency: Office of Federal Activities, General Information (202) 564-7156 or https://www2.epa.gov/nepa.

Weekly receipt of Environmental Impact Statements

Filed 03/19/2018 Through 03/23/2018

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20180048, Draft, FHWA, TX, SH 68 from I-2/US 83 to I-69C/US 281, Comment Period Ends: 05/14/2018, Contact: Margil Maldonado 956-702-6134

EIS No. 20180049, Final, NOAA, CA, CALAM Monterey Peninsula Water Supply Project FEIR/FEIS, Review Period Ends: 04/30/2018, Contact: Karen Grimmer 831-647-4253

EIS No. 20180050, Final, USFS, SD, Black Hills Resilient Landscapes Project, Review Period Ends: 04/30/2018, Contact: Anne Davy 406-273-1836

EIS No. 20180051, Final, USFS, CA, Highway 89 Safety Enhancement and Forest Ecosystem Restoration Project, Review Period Ends: 04/30/2018, Contact: Ann Glubczynski 530-964-3717

EIS No. 20180052, Draft, FERC, NY, Northeast Supply Enhancement Project, Comment Period Ends: 05/14/2018, Contact: Christine Allen 202-502-6847

Dated: March 27, 2018.
Kelly Knight,
Director, NEPA Compliance Division, Office of Federal Activities.

[FR Doc. 2018-06419 Filed 3-29-18; 8:45 am]

BILLING CODE 6560-50-P